DEPARTMENT OF ENERGY

Federal Energy Regulatory Commission

Combined Notice of Filings #1

Take notice that the commission received the following accounting Request filings:

Docket Numbers: AC25-114-000.

Applicants: FirstEnergy Pennsylvania Electric Company.

Description: FirstEnergy Pennsylvania Electric Company submits supplemental proposed final accounting entries re the consummation of the transfer of certain transmission facilities, etc.

Filed Date: 8/7/25.

Accession Number: 20250807-5136.

Comment Date: 5 p.m. ET 8/28/25.

Take notice that the Commission received the following exempt wholesale generator filings:

Docket Numbers: EG25-429-000.

Applicants: Long Point Solar, LLC.

Description: Long Point Solar, LLC submits Notice of Self-Certification of Exempt Wholesale Generator Status.

Filed Date: 8/7/25.

Accession Number: 20250807-5123.

Comment Date: 5 p.m. ET 8/28/25.

Docket Numbers: EG25-430-000.

Applicants: Green Mallard Solar, LLC.

Description: Green Mallard Solar, LLC submits Notice of Self-Certification of Exempt Wholesale Generator Status.

Filed Date: 8/8/25.

Accession Number: 20250808-5142.

Comment Date: 5 p.m. ET 8/29/25.

Docket Numbers: EG25-431-000.

Applicants: Amite Energy Storage, LLC.

Description: Amite Energy Storage, LLC submits Notice of Self-Certification of Exempt Wholesale Generator Status.

Filed Date: 8/8/25.

Accession Number: 20250808-5176.

Comment Date: 5 p.m. ET 8/29/25.

Docket Numbers: EG25-432-000.

Applicants: Forest Trace Solar, LLC.

Description: Forest Trace Solar, LLC submits Notice of Self-Certification of Exempt Wholesale Generator Status.

Filed Date: 8/8/25.

Accession Number: 20250808-5177.

Comment Date: 5 p.m. ET 8/29/25.

Docket Numbers: EG25-433-000.

Applicants: Garden Wind Energy, LLC.

Description: Garden Wind Energy, LLC submits Notice of Self-Certification of Exempt Wholesale Generator Status.

Filed Date: 8/8/25.

Accession Number: 20250808-5181.

Comment Date: 5 p.m. ET 8/29/25.

Take notice that the Commission received the following electric rate filings:

Docket Numbers: ER18-1266-004.

Applicants: Moxie Freedom LLC.

Description: Compliance filing: Moxie Freedom Schedule 2 Filing to be effective N/A.

Filed Date: 8/8/25.

Accession Number: 20250808-5144.

Comment Date: 5 p.m. ET 8/29/25.

Docket Numbers: ER21-2818-011.

Applicants: Tri-State Generation and Transmission Association, Inc.

Description: Compliance filing: Revisions to Rate Schedule No. 281 in Compliance with the July 9 Order to be effective 11/1/2021.

Filed Date: 8/8/25.

Accession Number: 20250808-5175.

Comment Date: 5 p.m. ET 8/29/25.

Docket Numbers: ER25-3110-000.

Applicants: Rock Creek Solar, LLC.

Description: § 205(d) Rate Filing: Rock Creek Solar MBR Application to be effective 10/8/2025.

Filed Date: 8/8/25.

Accession Number: 20250808-5001.

Comment Date: 5 p.m. ET 8/29/25.

Docket Numbers: ER25-3111-000.

Applicants: Amite Energy Storage, LLC.

Description: § 205(d) Rate Filing: Amite Energy Storage MBR Application to be effective 10/8/2025.

Filed Date: 8/8/25.

Accession Number: 20250808-5002.

Comment Date: 5 p.m. ET 8/29/25.

Docket Numbers: ER25-3112-000.

Applicants: Forest Trace Solar, LLC.

Description: § 205(d) Rate Filing: Forest Trace Solar MBR Application to be effective 10/8/2025.

Filed Date: 8/8/25.

Accession Number: 20250808-5003.

Comment Date: 5 p.m. ET 8/29/25.

Docket Numbers: ER25-3113-000.

Applicants: Green Mallard Solar, LLC.

Description: § 205(d) Rate Filing: Green Mallard Solar MBR Application to be effective 10/8/2025.

Filed Date: 8/8/25.

Accession Number: 20250808-5004.

Comment Date: 5 p.m. ET 8/29/25.

Docket Numbers: ER25-3114-000.

Applicants: Greenlee Solar, LLC.

Description: § 205(d) Rate Filing: Greenlee Solar MBR Application to be effective 10/8/2025.

Filed Date: 8/8/25.

Accession Number: 20250808-5005.

Comment Date: 5 p.m. ET 8/29/25.

Docket Numbers: ER25-3115-000.

Applicants: Manila Solar, LLC.

Description: § 205(d) Rate Filing: Manila Solar MBR Application to be effective 10/8/2025.

Filed Date: 8/8/25.

Accession Number: 20250808-5006.

Comment Date: 5 p.m. ET 8/29/25.

Docket Numbers: ER25-3116-000.

Applicants: Tupelo Brake Solar, LLC.

Description: § 205(d) Rate Filing: Tupelo Brake Solar MBR Application to be effective 10/8/2025.

Filed Date: 8/8/25.

Accession Number: 20250808-5007.

Comment Date: 5 p.m. ET 8/29/25.

Docket Numbers: ER25-3117-000.

Applicants: Red Butte Wind, LLC.

Description: § 205(d) Rate Filing: Red Butte Wind MBR Application to be effective 10/8/2025.

Filed Date: 8/8/25.

Accession Number: 20250808-5008.

Comment Date: 5 p.m. ET 8/29/25.

Docket Numbers: ER25-3118-000.

Applicants: Garden Wind Energy, LLC.

Description: § 205(d) Rate Filing: Garden Wind Energy MBR Application to be effective 10/8/2025.

Filed Date: 8/8/25.

Accession Number: 20250808-5009.

Comment Date: 5 p.m. ET 8/29/25.

Docket Numbers: ER25-3119-000.

Applicants: Emmons-Logan Energy Storage, LLC.

Description: § 205(d) Rate Filing: Emmons-Logan Energy Storage MBR Application to be effective 10/8/2025.

Filed Date: 8/8/25.

Accession Number: 20250808-5010.

Comment Date: 5 p.m. ET 8/29/25.

Docket Numbers: ER25-3120-000.

Applicants: Three Waters Wind Farm, LLC.

Description: § 205(d) Rate Filing: Three Waters Wind Farm MBR Application to be effective 10/8/2025.

Filed Date: 8/8/25.

Accession Number: 20250808-5011.

Comment Date: 5 p.m. ET 8/29/25.

Docket Numbers: ER25-3121-000.

Applicants: Benton Solar, LLC.

Description: § 205(d) Rate Filing: Benton Solar MBR Application to be effective 10/8/2025.

Filed Date: 8/8/25.

Accession Number: 20250808-5012.

Comment Date: 5 p.m. ET 8/29/25.

Docket Numbers: ER25-3122-000.

Applicants: Garnet Energy Center, LLC.

Description: § 205(d) Rate Filing: Garnet Energy Center MBR Application to be effective 10/8/2025.

Filed Date: 8/8/25.

Accession Number: 20250808-5013.

Comment Date: 5 p.m. ET 8/29/25.

Docket Numbers: ER25-3123-000.

Applicants: Trelina Solar Energy Center, LLC.

Description: § 205(d) Rate Filing: Trelina Solar Energy Center MBR Application to be effective 10/8/2025.

Filed Date: 8/8/25.

Accession Number: 20250808-5014.

Comment Date: 5 p.m. ET 8/29/25.

Docket Numbers: ER25-3125-000.

Applicants: Entergy Louisiana, LLC.

Description: § 205(d) Rate Filing: ELL-Concordia Transmission Interconnection Agreement to be effective 9/1/2025.

Filed Date: 8/8/25.

Accession Number: 20250808-5089.

Comment Date: 5 p.m. ET 8/29/25.

Docket Numbers: ER25-3126-000.

Applicants: Entergy Louisiana, LLC.

Description: § 205(d) Rate Filing: ELL-JDEC Transmission Interconnection Agreement to be effective 9/1/2025.

Filed Date: 8/8/25.

Accession Number: 20250808-5091.

Comment Date: 5 p.m. ET 8/29/25.

Docket Numbers: ER25-3127-000.

Applicants: Entergy Louisiana, LLC.

Description: § 205(d) Rate Filing: ELL-SLEMCO Transmission Interconnection Agreement to be effective 9/1/2025.

Filed Date: 8/8/25.

Accession Number: 20250808-5092.

Comment Date: 5 p.m. ET 8/29/25.

Docket Numbers: ER25-3128-000.

Applicants: ISO New England Inc., New England Power Pool Participants Committee.

Description: § 205(d) Rate Filing: ISO New England Inc. submits tariff filing per 35.13(a)(2)(iii: ISO-NE/NEPOOL; Rev to Support Implementation of NECEC Transmission Line to be effective 10/7/2025.

Filed Date: 8/8/25.

Accession Number: 20250808-5103.

Comment Date: 5 p.m. ET 8/29/25.

Docket Numbers: ER25-3129-000.

Applicants: PJM Interconnection, L.L.C.

Description: Tariff Amendment: Notice of Cancellation of ISA No. 6975; Queue Nos. AE2-020/AE2-021/AE2-022 to be effective 10/8/2025.

Filed Date: 8/8/25.

Accession Number: 20250808-5118.

Comment Date: 5 p.m. ET 8/29/25.

Docket Numbers: ER25-3130-000.

Applicants: Morgnec Road Solar, LLC.

Description: Initial Rate Filing: Market-Based Rate Application to be effective 10/8/2025.

Filed Date: 8/8/25.

Accession Number: 20250808-5123.

Comment Date: 5 p.m. ET 8/29/25.

Docket Numbers: ER25-3131-000.

Applicants: Nimbus Wind Farm, LLC.

Description: Initial Rate Filing: Market-Based Rate Application to be effective 10/8/2025.

Filed Date: 8/8/25.

Accession Number: 20250808-5134.

Comment Date: 5 p.m. ET 8/29/25.

Docket Numbers: ER25-3132-000.

Applicants: Entergy Arkansas, LLC.

Description: § 205(d) Rate Filing: Forgeview Solar, LLC LBA Agreement to be effective 9/1/2025.

Filed Date: 8/8/25.

Accession Number: 20250808-5163.

Comment Date: 5 p.m. ET 8/29/25.

Docket Numbers: ER25-3133-000.

Applicants: Entergy Arkansas, LLC.

Description: § 205(d) Rate Filing: New Madrid Solar, LLC LBA Agreement to be effective 9/1/2025.

Filed Date: 8/8/25.

Accession Number: 20250808-5164.

Comment Date: 5 p.m. ET 8/29/25.

Docket Numbers: ER25-3134-000.

Applicants: PJM Interconnection, L.L.C.

Description: § 205(d) Rate Filing: Amendment to GIA, SA No. 7411; Project Identifier No. AF2-029 to be effective 10/8/2025.

Filed Date: 8/8/25.

Accession Number: 20250808-5167.

Comment Date: 5 p.m. ET 8/29/25.

Docket Numbers: ER25-3135-000.

Applicants: Tampa Electric Company.

Description: § 205(d) Rate Filing: Corporate Headquarters Address Change to be effective 8/8/2025.

Filed Date: 8/8/25.

Accession Number: 20250808-5184.

Comment Date: 5 p.m. ET 8/29/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: August 8, 2025.
Carlos D. Clay,
Deputy Secretary.

[FR Doc. 2025-15336 Filed 8-12-25; 8:45 am]

BILLING CODE 6717-01-P